DEPARTMENT OF AGRICULTURE

Forest Service

Notice of Proposed New Fee Sites

AGENCY: Forest Service, Agriculture (USDA).

ACTION: Notice of proposed new fee sites.

SUMMARY: The Coconino National Forest is proposing to charge new fees at multiple recreation sites listed in SUPPLEMENTARY INFORMATION of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Coconino National Forest, 1824 S Thompson St., Flagstaff, AZ 86001.

FOR FURTHER INFORMATION CONTACT: Christopher Johansen, Forest Recreation Officer, 928-203-7529 or Christopher.Johansen@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, a $5 day-use fee per vehicle is proposed at Dry Creek, Fay Canyon, Mescal, Bell, Lava River Cave, and Bruce Brocket Day use sites. The Red Rock Pass and full suite of Interagency passes would be honored.

New fees would provide increased visitor opportunities, as well as increased staffing to address operations and maintenance needs and enhance customer service. Once public involvement is complete, these new fees will be reviewed by a Recreation Resource Advisory Committee prior to a final decision and implementation.

Dated: June 22, 2022.
Sandra Watts,
Acting Associate Deputy Chief, National Forest System.

[FR Doc. 2022-13673 Filed 6-24-22; 8:45 am]

BILLING CODE 3411-15-P